DEPARTMENT OF LABOR

Employment and Training Administration

[TA-W-39,351]

AG Green Industries, Mexico, Missouri; Dismissal of Application for Reconsideration

Pursuant to 29 CFR 90.18(C) an application for administrative reconsideration was filed with the Director of the Division of Trade Adjustment Assistance for workers at AP Green Industries, Mexico, Missouri. The application contained no new substantial information which would bear importantly on the Department's determination. Therefore, dismissal of the application was issued.

TA-W-39,351; AP Green Industries Mexico, Missouri (January 24, 2002)

Signed at Washington, DC, this 24th day of January, 2002.
Edward A. Tomchick,
Director, Division of Trade Adjustment Assistance.

[FR Doc. 02-2683 Filed 2-4-02; 8:45 am]

BILLING CODE 4510-30-M